DEPARTMENT OF TRANSPORTATION

Federal Aviation Administration

14 CFR Part 39

[Docket No. FAA-2014-0923; Directorate Identifier 2014-NM-176-AD]

RIN 2120-AA64

Airworthiness Directives; The Boeing Company Airplanes

AGENCY: Federal Aviation Administration (FAA), Department of Transportation (DOT).

ACTION: Proposed rule; withdrawal.

SUMMARY: The FAA withdraws a notice of proposed rulemaking (NPRM) that proposed a new airworthiness directive (AD), which would have applied to certain The Boeing Company Model 737-700, -800, and -900ER series airplanes. The NPRM would have required repetitive inspections to detect cracking in the crown skin panel assembly. The NPRM would also have provided optional terminating action for the repetitive inspections. Since the NPRM was issued, all affected airplanes worldwide have had applicable terminating actions accomplished, and one airplane was mistakenly included in the applicability. Accordingly, the NPRM is withdrawn.

DATES: As of August 30, 2016, the proposed rule, which was published in the Federal Register on December 15, 2014 (79 FR 74032), is withdrawn.

ADDRESSES: You may examine the AD docket on the Internet at http://www.regulations.gov by searching for and locating Docket No. FAA-2014-0923; or in person at the Docket Management Facility between 9 a.m. and 5 p.m., Monday through Friday, except Federal holidays. The AD docket contains this AD action, the NPRM (79 FR 74032, December 15, 2014), the regulatory evaluation, any comments received, and other information. The address for the Docket Office (telephone: 800-647-5527) is the Docket Management Facility, U.S. Department of Transportation, Docket Operations, M-30, West Building Ground Floor, Room W12-140, 1200 New Jersey Avenue SE., Washington, DC 20590.

FOR FURTHER INFORMATION CONTACT: Gaetano Settineri, Aerospace Engineer, Airframe Branch, ANM-120S, FAA, Seattle Aircraft Certification Office (ACO), 1601 Lind Avenue SW., Renton, WA 98057-3356; phone: 425-917-6577; fax: 425-917-6590; email: gaetano.settineri@faa.gov.

SUPPLEMENTARY INFORMATION:

Discussion

We proposed to amend part 39 of the Federal Aviation Regulations (14 CFR part 39) with a NPRM for a new AD for certain The Boeing Company Model 737-700, -800, and -900ER series airplanes. The NPRM published in the Federal Register on December 15, 2014 (79 FR 74032) (“the NPRM”). The NPRM would have required repetitive inspections to detect cracking in the crown skin panel assembly. The NPRM would also have provided optional terminating action for the repetitive inspections. The NPRM was prompted by reports of troughs in the skin along the chem-mill pocket edges of certain fuselage crown skin panel assemblies. The proposed actions were intended to detect and correct cracking from troughs in the chem-mill pocket edges, which could lead to rapid decompression of the airplane.

Actions Since NPRM Was Issued

Since we issued the NPRM, we have determined that all affected airplanes worldwide have had applicable terminating actions accomplished, and one airplane had been included mistakenly in the applicability. The unsafe condition identified in the NPRM was created due to a production escapement and was limited to 11 airplanes. However, the affected airplanes have all been inspected for the unsafe condition and in instances where the unsafe condition was present, the discrepant parts were replaced with conforming parts. With the discrepant parts replaced, the unsafe condition no longer exists.

Comments

We gave the public the opportunity to participate in considering the NPRM. Two commenters, Boeing and Aviation Partners Boeing, requested certain changes to the NPRM that are considered moot by this withdrawal.

FAA's Conclusions

Upon further consideration, we have determined that the unsafe condition described in the NPRM no longer exists. Accordingly, the NPRM is withdrawn.

Withdrawal of the NPRM does not preclude the FAA from issuing another related action or commit the FAA to any course of action in the future.

Regulatory Impact

Since this action only withdraws an NPRM, it is neither a proposed nor a final rule and therefore is not covered under Executive Order 12866, the Regulatory Flexibility Act, or DOT Regulatory Policies and Procedures (44 FR 11034, February 26, 1979).

List of Subjects in 14 CFR Part 39

Air transportation, Aircraft, Aviation safety, Incorporation by reference, Safety.

The Withdrawal

Accordingly, we withdraw the NPRM, Docket No. FAA-2014-0923, Directorate Identifier 2014-NM-176-AD, which was published in the Federal Register on December 15, 2014 (79 FR 74032).

Issued in Renton, Washington, on August 18, 2016.
Dorr M. Anderson,
Acting Manager, Transport Airplane Directorate, Aircraft Certification Service.

[FR Doc. 2016-20704 Filed 8-29-16; 8:45 am]

BILLING CODE 4910-13-P